DEPARTMENT OF AGRICULTURE

Forest Service

Notice of Mineral County Resource Advisory Committee Meeting

AGENCY: Forest Service, USDA.

ACTION: Notice of meeting.

SUMMARY: Pursuant to the authorities in the Federal Advisory Committee Act (Pub. L. 92-463) and under the Secure Rural Schools and Community Self-Determination Act of 2000 (Pub. L. 106-393) The Lolo National Forest's Mineral County Resource Advisory Committee will meet on December 12, 2002 and January 9, 2003 from 6 p.m. until 8 p.m. in Superior, Montana for their next two business meetings. The meetings are open to the public.

DATES: December 12, 2002 and January 9, 2003.

ADDRESSES: The meetings will be held at the Mineral County Courthouse, 300 River Street, Superior, MT 59872.

FOR FURTHER INFORMATION CONTACT: Robert Harper. Designated Federal Official (DFO), District Ranger, Superior District, Lolo National Forest at (406) 822-4233.

SUPPLEMENTARY INFORMATION: Agenda topics for the December 12 meeting include discussion and possible funding of projects as authorized under Title II of Pub. L. 106-393. Agenda topics for the January 9, 2003 meeting will be a continuation of project funding, and a representative from another western Montana Resource Advisory Committee to discuss their progress, projects and how they are organized . If the meeting location is changed, notice will be posted in local newspapers, including the Mineral Independent and the Missoulian.

Dated: November 18, 2002.
Deborah L.R. Austin,
Forest Supervisor, Lolo National Forest.

[FR Doc. 02-29835 Filed 11-22-02; 8:45 am]

BILLING CODE 3410-11-M